DEPARTMENT OF HOUSING AND URBAN DEVELOPMENT

[Docket No. FR-5376-N-32]

Tracking the Use of CDBG Homeowners and Small Landlords Disaster Assistance Grants

AGENCY: Office of the Chief Information Officer, HUD.

ACTION: Notice.

SUMMARY: The proposed information collection requirement described below has been submitted to the Office of Management and Budget (OMB) for review, as required by the Paperwork Reduction Act. The Department is soliciting public comments on the subject proposal.

This study will evaluate the role of supplemental CDBG disaster recovery funding in housing recovery in the three states most affected by hurricanes Katrina and Rita (Louisiana, Mississippi, and Texas) and identify the most important factors affecting property owners' willingness to rebuild or repair their storm-damaged properties.

DATES: Comments Due Date: June 7, 2010.

ADDRESSES: Interested persons are invited to submit comments regarding this proposal. Comments should refer to the proposal by name and/or OMB approval Number (2525-Pending) and should be sent to: HUD Desk Officer, Office of Information and Regulatory Affairs (OIRA), Office of Management and Budget (OMB), New Executive Office Building, Washington, DC 20503; e-mail: OIRA_Submission@omb.eop.gov; fax: (202) 395-5806.

FOR FURTHER INFORMATION CONTACT: Cheryl A. Levine, PhD, Department of Housing and Urban Development, e-mail: cheryl.a.levine@hud.gov, phone (202) 402-3928; or Carol Star, Director, Program Evaluation Division; e-mail: Carol Star at carol.s.star@hud.gov. Copies of available documents submitted to OMB may be obtained from Dr. Levine.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Tracking the use of CDBG Homeowners and Small Landlords Disaster Assistance Grants.

OMB Approval Number: 2528-Pending.

Form Numbers: None.

Description of the Need for the Information and Its Proposed Use: This study will evaluate the role of supplemental CDBG disaster recovery funding in housing recovery in the three states most affected by hurricanes Katrina and Rita (Louisiana, Mississippi, and Texas) and identify the most important factors affecting property owners' willingness to rebuild or repair their storm-damaged properties.

Frequency of Submission: On Occasion.

Reporting Burden
Number of respondents | Annual responses | × | Hours per response | = | Burden hours
984 | 1 |  | 0.75 |  | 738

Total Estimated Burden Hours: 738.

Status: New Collection.

Authority: Section 3507 of the Paperwork Reduction Act of 1995, 44 U.S.C. 35, as amended.

Dated: April 30, 2010.
Leroy McKinney, Jr.,
Departmental Reports Management Officer, Office of the Chief Information Officer.

[FR Doc. 2010-10747 Filed 5-6-10; 8:45 am]

BILLING CODE 4210-67-M